DEPARTMENT OF ENERGY

Federal Energy Regulatory Commission

[Project No. 12532-006]

Pine Creek Mine, LLC; Notice of Availability of Environmental Assessment

In accordance with the National Environmental Policy Act of 1969, and the Federal Energy Regulatory Commission's (Commission) regulations, 18 CFR part 380 (Order No. 486, 52 FR 47,897), the Office of Energy Projects has reviewed Pine Creek Mine, LLC's (PCM or applicant) application for a license to construct its proposed Pine Creek Mine Tunnel Hydroelectric Project (Pine Creek Mine or project), and has prepared an Environmental Assessment (EA). The proposed 1.5-megawatt (MW) project would be located largely inside the Pine Creek Mine tunnel and adjacent to Morgan Creek and Pine Creek in Inyo County, California. The project would occupy only subsurface federal lands managed the U.S. Forest Service.

The EA contains Commission staff's analysis of the potential environmental impacts of the proposed hydroelectric project. The EA concludes that licensing the project, with appropriate environmental protective measures, would not constitute a major federal action that would significantly affect the quality of the human environment.

A copy of the EA is available for review at the Commission in the Public Reference Room or may be viewed on the Commission's website at www.ferc.gov using the “eLibrary” link. Enter the docket number excluding the last three digits in the docket number field to access the document. For assistance, contact FERC Online Support at FERCOnlineSupport@ferc.gov or toll-free at 1-866-208-3676, or for TTY, 202-502-8659.

You may also register online at www.ferc.gov/docs-filing/esubscription.asp to be notified via email of new filings and issuances related to this or other pending projects. For assistance, contact FERC Online Support.

Any comments and modified terms and conditions on the EA should be filed within 60 days from the date of this notice.

The Commission strongly encourages electronic filings. Please file comments using the Commission's eFiling system at http://www.ferc.gov/docs-filing/efiling.asp. Commenters can submit brief comments up to 6,000 characters, without prior registration, using the eComment system at http://www.ferc.gov/docs-filing/ecomment.asp.

You must include your name and contact information at the end of your comments. For assistance, please contact FERC Online Support. In lieu of electronic filing, please send a paper copy to: Secretary, Federal Energy Regulatory Commission, 888 First Street NE, Washington, DC 20426. Please affix “Project No. 12532-006” to all comments.

Please contact Quinn Emmering (Commission Staff) by telephone at (202) 502-6382, or by email at quinn.emmering@ferc.gov, if you have any questions.

Dated: February 12, 2018.
Kimberly D. Bose,
Secretary.

[FR Doc. 2018-03248 Filed 2-15-18; 8:45 am]

BILLING CODE 6717-01-P